DEPARTMENT OF COMMERCE

[Docket No. 240906-0232]

Membership of the Performance Review Boards

AGENCY: Department of Commerce, Office of the Secretary.

ACTION: Notice of Membership on the Office of the Secretary (OS) Performance Review Board, International Trade Administration (ITA) Performance Review Board, and the Bureau of Industry and Security (BIS), Economic Development Administration (EDA), Minority Business Development Agency (MBDA), and National Telecommunications and Information Administration (NTIA) Performance Review Board.

SUMMARY: The Department of Commerce (DOC), announces the appointment of those individuals who have been selected to serve as members of the Office of the Secretary (OS) Performance Review Board, International Trade Administration (ITA) Performance Review Board, and the Bureau of Industry and Security (BIS), Economic Development Administration (EDA), Minority Business Development Agency (MBDA), and National Telecommunications and Information Administration (NTIA) Performance Review Board.

DATES: The appointment for those individuals selected for the Performance Review Boards begins immediately upon publication of this notice. Service is expected to last through Fiscal Years 2025 and 2026, which begins on October 1, 2024, and ends on September 30, 2026.

FOR FURTHER INFORMATION CONTACT: Luis A. Figueroa, U.S. Department of Commerce, Office of Human Resources Management, Office of Executive Resources, 14th and Constitution Avenue NW, Washington, DC 20230, at (202) 482-3956.

SUPPLEMENTARY INFORMATION: In accordance with 5 U.S.C. 4314 (c) (4), the Department of Commerce (DOC), Office of the Secretary, announces the appointment of those individuals who have been selected to serve as members of the OS Performance Review Board, ITA Performance Review Board, and the BIS, EDA, MBDA, and NTIA Performance Review Board. The Performance Review Boards are responsible for (1) reviewing performance appraisals and ratings of Senior Executive Service (SES) and (SL) members; and (2) making recommendations to the appointing authority on other performance management issues, such as pay adjustments and bonuses. The members listed in this notice can serve on any of the three boards mentioned if alternate members are needed. Additionally, all members listed in this notice may be selected to participate in ad-hoc Performance Review Boards as needed.

This notice supersedes the list published in the Federal Register on October 20, 2023 (Docket No. 231005-0239).

OS Performance Review Board Members: The name, position title, and type of appointment of each member of the Office of the Secretary Performance Review Board are set forth below:

1. Kurt Bersani, Deputy Director for Planning, Implementation, and Stakeholder Relations (OS), Career SES

2. James Christy, Assistant Director for Field Operations (Census), Career SES

3. Junish Arora, Chief Diversity, Equity, and Inclusion Officer (OCFO/ASA), Career SES

4. Kardesha Bradley, Assistant General Counsel for Transactions and Program Management (OGC), Career SES

5. Paige Herwig, Deputy General Counsel for Technology and Economic Growth (OGC), Non-Career SES

6. Michael Harman, Director for Client Security Services (OCFO/ASA), Career SES

7. Charles Cutshall, Director, Office of Privacy and Open Government (OCFO/ASA), Career SES

ITA Performance Review Board Members: The name, position title, and type of appointment of each member of the International Trade Administration Performance Review Board are set forth below:

1. Laurie Monk, Director of Human Capital (ITA), Career SES

2. Scot Fullerton, Associate Deputy Assistant Secretary for AD/CVD Operations (ITA), Career SES

3. Bart Meroney, Executive Director for Manufacturing (ITA), Career SES

4. Lisle Hannah, Director for Facilities and Environmental Quality (OCFO/ASA), Career SES

5. Kendee Yamaguchi, Deputy Assistant Secretary for U.S. Field (ITA), Non-Career SES

6. David De Falco, Deputy Assistant Secretary for Europe (ITA), Career SES

7. Marti Flacks, Director for Supply Chain (ITA), Career SES

BIS, EDA, MBDA, NTIA Performance Review Board Members: The name, position title, and type of appointment of each member of the BIS, EDA, MBDA, and NTIA Performance Review Board are set forth below:

1. Keven Valentin, Chief Financial Officer and Director of Administration (BIS), Career SES

2. Linda Cruz-Carnall, Philadelphia Regional Director (EDA), Career SES

3. Douglas Kinkoph, Associate Administrator for Telecommunications and Information Applications (NTIA), Career SES

4. LaMarsha DeMarr, Director, Human Resources Services, Enterprise Services (OS), Career SES

5. Keigan Mull, Counselor to the Under Secretary (ITA), Non-Career SES

6. Eric Longnecker, Deputy Assistant Secretary for Technology Security (BIS), Career SES

7. Dan Clutch, Deputy Director, Office of Export Enforcement (BIS), Career SES

8. Susan Brehm, Chicago Regional Director (EDA), Career SES

9. Jorge Ayala, Austin Regional Director (EDA), Career SES

10. Beth Grossman, Assistant General Counsel for Legislation and Regulation (OGC), Career SES

11. James Gwinn, Chief Information Officer (FirstNet), Career SES

12. Phillip Murphy, Senior Advisor (NTIA), Non-Career SES

13. Richard Reed, Chief Customer Officer (FirstNet), Career SES

14. Michael Phelps, Director, Office of Budget (OCFO/ASA), Career SES

Dated: September 17, 2024.
Jessica S. Palatka,
Director, Office of Human Resources Management (OHRM) and Chief Human Capital Officer (CHCO).

[FR Doc. 2024-21568 Filed 9-19-24; 8:45 am]

BILLING CODE 3510-03-P